DEPARTMENT OF HEALTH AND HUMAN SERVICES

National Institutes of Health

National Institute of Allergy and Infectious Diseases; Notice of Meetings

Pursuant to section 10(a) of the Federal Advisory Committee Act, as amended (5 U.S.C. App.), notice is hereby given of meetings of the AIDS Research Advisory Committee, NIAID.

The meetings will be open to the public, with attendance limited to space available. Individuals who plan to attend and need special assistance, such as sign language interpretation or other reasonable accommodations, should notify the Contact Person listed below in advance of the meeting.

Name of Committee: AIDS Research Advisory Committee, NIAID.

Date: January 25, 2016.

Time: 1:00 p.m. to 5:00 p.m.

Agenda: Reports from the Division Director and other staff.

Place: National Institutes of Health, Natcher Building, Conference Rooms E1/E2, 45 Center Drive, Bethesda, MD 20892.

Contact Person: Mark A. Mueller, Executive Secretary, AIDS Research Advisory Committee Division of AIDS, NIAID/NIH, 5601 Fishers Lane, RM 8D39 Bethesda, MD 20892, 301-402-2308, mark.mueller@nih.gov.

Name of Committee: AIDS Research Advisory Committee, NIAID.

Date: June 6, 2016.

Time: 1:00 p.m. to 5:00 p.m.

Agenda: Reports from the Division Director and other staff.

Place: National Institutes of Health, Natcher Building, Conference Rooms E1/E2, 45 Center Drive, Bethesda, MD 20892.

Contact Person: Mark A. Mueller, Executive Secretary, AIDS Research Advisory Committee, Division of AIDS, NIAID/NIH, 5601 Fishers Lane, RM 8D39 Bethesda, MD 20892, 301-402-2308, mark.mueller@nih.gov.

Name of Committee: AIDS Research Advisory Committee, NIAID.

Date: September 12, 2016.

Time: 1:00 p.m. to 5:00 p.m.

Agenda: Reports from the Division Director and other staff.

Place: National Institutes of Health, Natcher Building, Conference Rooms E1/E2, 45 Center Drive, Bethesda, MD 20892.

Contact Person: Mark A. Mueller, Executive Secretary, AIDS Research Advisory Committee, Division of AIDS, NIAID/NIH, 5601 Fishers Lane, Rm 8D39 Bethesda, MD 20892, 301-402-2308, mark.mueller@nih.gov.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

(Catalogue of Federal Domestic Assistance Program Nos. 93.855, Allergy, Immunology, and Transplantation Research; 93.856, Microbiology and Infectious Diseases Research, National Institutes of Health, HHS)

Dated: December 8, 2015.
Natasha Copeland,
Program Analyst, Office of Federal Advisory Committee Policy.

[FR Doc. 2015-31436 Filed 12-14-15; 8:45 am]

BILLING CODE 4140-01-P